DEPARTMENT OF AGRICULTURE

Natural Resources Conservation Service

Environmental Impact Statement on Watershed Planning and Implementation of Resource Protection Measures for the Rockhouse Creek Watershed, Leslie County, KY; Correction

AGENCY: Natural Resources Conservation Service, USDA.

ACTION: Notice; correction.

SUMMARY: The Natural Resources Conservation Service published a document in the Federal Register of March 19, 2004, concerning a Notice of Intent for Environmental Impact Statement on Watershed Planning and Implementation of Resource Protection Measures for the Rockhouse Creek Watershed, Leslie County, Kentucky, Scoping Meeting. The document contained incorrect meeting location.

FOR FURTHER INFORMATION CONTACT: Mr. Jack Kuhn, Assistant State Conservationist, Natural Resource Planning, 771 Corporate Drive, Suite 210, Lexington, KY 40503-5479; telephone: 859-224-7371.

Correction

In the Federal Register of March 19, 2004, in FR Doc. 04-6200, on page 13015, in the second column, correct the “Scoping Meeting” caption to read:

Scoping Meeting: A public scoping meeting will be held April 20, 2004 to provide information and the opportunity to discuss the issues and alternatives that should be covered in the Draft EIS and to receive oral and written comments. The meeting will be held from 6 p.m. to 8:30 p.m. in the Rockhouse Pentecostal Church, Route 421, Hyden, KY.

Dated: March 30, 2004.
Helen V. Huntington,
Federal Register Liaison, Natural Resources Conservation Service.

[FR Doc. 04-7678 Filed 4-5-04; 8:45 am]

BILLING CODE 3410-16-P